DEPARTMENT OF THE INTERIOR

National Park Service

[NPS-SERO-BISC-16338; PPSESEROC3, PMP00UP05.YP0000]

Record of Decision for the Fishery Management Plan, Biscayne National Park, FL

AGENCY: National Park Service, Interior.

ACTION: Notice of availability.

SUMMARY: The National Park Service (NPS) announces the availability of the Record of Decision (ROD) for the Final Environmental Impact Statement (FEIS) for the Fishery Management Plan (FMP) for Biscayne National Park (Park). On July 10, 2014, the Regional Director, Southeast Region, approved the ROD for the project.

FOR FURTHER INFORMATION CONTACT: Superintendent Brian Carlstrom, Biscayne National Park, 9700 SW 328th St, Homestead, FL 33033; telephone (305) 230-1144.

SUPPLEMENTARY INFORMATION: Increases in South Florida's boating and fishing population combined with improved fishing and boating technology pose a threat to the long-term sustainability of fishery-related resources and numerous scientific studies suggest that many of the Park's fisheries resources are in decline. An FMP was therefore deemed necessary to guide sustainable use of the Park's fishery-related resources. The Park's FMP will guide fishery management decisions in the park for the next five to ten years.

Biscayne National Park's FMP is the result of a cooperative effort between the Park and the Florida Fish and Wildlife Conservation Commission (FWC). This partnership is a necessary part of fishery management because the Park's enabling legislation states that fishing within the Park must be in accordance with the laws of the State of Florida.

The FMP FEIS presented a range of five alternatives. The development of the alternatives and the identification of the preferred alternative were based on a combination of public input (derived from three public comment periods and three series of public meetings, and the input of the FMP Working Group), inter-agency meetings, and environmental and socioeconomic analyses. The NPS, in coordination with the FWC, has decided to implement Alternative 4, Rebuild and Conserve Park Fisheries Resources for its Fishery Management Plan. The NPS and FWC determined that Alternative 4 best balances resource protection and visitor use. Factors considered during the decision-making process included: (A) Assessment of the direction and degree of environmental impacts to the Park's fisheries resources, given their current status, (B) the ability of an alternative to equitably balance conservation, enjoyment and extractive uses of the Park's fisheries resources, (C) impacts on recreational and commercial fishing, (D) feasibility of successfully implementing regulations to achieve alternative goals, and (E) socioeconomic impacts. Factors A and B were weighted more heavily than the remaining factors.

Under Alternative 4, a considerable change from current management strategies would be required to achieve a substantial improvement in Park fisheries resources status and a reduction in fishing-related habitat impacts. Specific regulatory changes proposed under this alternative include:

• Developing park-specific fishing regulations (in conjunction with the FWC) to increase the abundance and average size of targeted fish and invertebrate species within the Park by at least 20% over current conditions and over conditions in similar habitat outside the park.

• Elimination of the two-day lobster sport season.

• Prohibition of the use of an air supply or gear with a trigger mechanism while spearfishing.

• Phasing out of commercial fishing via the requirement that all commercial fishers must purchase a limited-entry, Special Use Permit from the park Superintendent. The permit would be permanently non-transferable, would require annual renewal, and would be “use or lose” such that a permit could not be renewed if (1) it was not renewed the previous year, or (2) no catch was reported in the previous year.

• Establishment (by FWC) of coral reef protection areas (CRPAs) to delineate coral reef habitat on which lobster and crab traps could not be deployed. Traps within the CRPAs could be moved outside CRPA boundaries by authorized FWC or Park staff, or other authorized personnel. Additionally, the trap number from traps observed within CRPAs would be recorded, and traps with three or more recorded violations could be confiscated from Park waters.

• Proposal of a no-trawl zone within the Bay, in which commercial shrimp trawling would be prohibited. This zone would serve to protect juvenile fish and invertebrates commonly caught as bycatch in trawls, as well as protect essential fish habitat.

New regulations will be implemented through the federal rulemaking process (for federal rules) and through the FWC's rulemaking process (for park-specific state rules). The public will have the opportunity to comment on all proposed regulatory changes. Regulatory changes that would be implemented are expected to improve fisheries and habitat resources. The FEIS and National Marine Fishery Service Biological Opinion can be obtained in its entirety by (1) downloading the report from the Planning, Environment, and Public Comment (PEPC) Web site at http://parkplanning.nps.gov/bisc, (2) Visiting Biscayne National Park at 9700 SW 328th St, Homestead, FL 33033 to request a copy, or (3) Calling Biscayne National Park at 305-230-1144 to request a copy.

Dated: October 1, 2014.
Stan Austin,
Regional Director, Southeast Region.

[FR Doc. 2014-25583 Filed 10-27-14; 8:45 am]

BILLING CODE 4310-JD-P